DEPARTMENT OF COMMERCE

International Trade Administration

[A-583-816]

Notice of Postponement of Final Results of Antidumping Duty Administrative Review: Certain Stainless Steel Butt-Weld Pipe Fittings From Taiwan

AGENCY: Import Administration, International Trade Administration, Department of Commerce.

ACTION: Notice of postponement of final results of antidumping duty administrative review.

EFFECTIVE DATE: November 9, 2000.

FOR FURTHER INFORMATION CONTACT: Alex Villanueva or James Doyle, Office IX, DAS Group III, Import Administration, International Trade Administration, U.S. Department of Commerce, 14th Street and Constitution Avenue NW, Washington, DC 20230; telephone (202) 482-6412 and (202) 482-0159, respectively.

Postponement of Preliminary Determination

The Department of Commerce (“the Department”) is postponing the final results in the antidumping duty administrative review of Certain Stainless Steel Butt-Weld Pipe Fittings (“SSBWPF”) from Taiwan. The deadline for issuing the final results in this administrative review is now December 15, 2000.

On July 29, 1999, the Department initiated this administrative review. See Initiation of Antidumping and Countervailing Duty Administrative Reviews and Requests for Revocation in Part, 64 FR 41075 (July 29, 1999). The date for issuing the final results of the review was November 3, 2000. In order to provide interested parties an opportunity to comment on the issue of reimbursement, which arose late in the proceeding, we are extending the time limit for the final results of the administrative review of SSBWPF from Taiwan by 42 days, in accordance with section 751(a)(3) of the Tariff Act of 1930, as amended. See November 3, 2000 memorandum from Edward Yang to Joseph Spetrini: Extension of Time Limit for the Administrative Review of Certain Stainless Steel Butt-Weld Pipe Fittings from Taiwan.

The date for issuing the final results is moved from November 3, 2000 to December 15, 2000.

Dated: November 3, 2000.
Edward C. Yang,
Acting Deputy Assistant Secretary, AD/CVD Enforcement Group III.

[FR Doc. 00-28833 Filed 11-8-00; 8:45 am]

BILLING CODE 3510-DS-P